DEPARTMENT OF ENERGY

Federal Energy Regulatory Commission

[Docket No. EC02-93-000, et al.]

Tomen Power Corporation, et al.; Electric Rate and Corporate Regulation Filings

July 16, 2002.

The following filings have been made with the Commission. The filings are listed in ascending order within each docket classification.

1. Tomen Power Corporation and Fort Point Power LLC

[Docket No. EC02-93-000]

Take notice that on July 12, 2002, Tomen Power Corporation and Fort Point Power LLC (Applicants) filed with the Federal Energy Regulatory Commission (Commission), a joint application pursuant to section 203 of the Federal Power Act for authorization of a disposition of jurisdictional facilities whereby Applicants request approval of the indirect transfer of a 20% limited partnership interest in Lakewood Cogeneration Limited Partnership from Tomen Power Corporation to Fort Point Power LLC.

Lakewood Cogeneration Limited Partnership states that it is engaged exclusively in the business of owning a 238 MW natural gas-fired topping cycle cogeneration facility located in Lakewood Township, New Jersey, and selling its capacity at wholesale to Jersey Central Power & Light Company. The Applicants request privileged treatment by the Commission of the Membership Interests Purchase Agreement that governs the proposed transfer.

Comment Date: August 1, 2002.

2. Whitewater Hill Wind Partners, LLC

[Docket No. EG02-164-000]

Take notice that on July 11, 2002, Whitewater Hill Wind Partners, LLC (the Applicant), with its principal office at c/o Cannon Power Corporation, P. O. Box 675143, Rancho Santa Fe, California 92067, filed with the Federal Energy Regulatory Commission (Commission), an application for determination of exempt wholesale generator status pursuant to Part 365 of the Commission's regulations.

Applicant states that it is a Delaware limited liability company engaged directly and exclusively in the business of owning and operating an approximately 65 MW generating facility located in Riverside County, California. Electric energy produced by the facility will be sold exclusively at wholesale by Applicant.

Comment Date: August 6, 2002.

3. Crescent Ridge LLC

[Docket No. EG02-165-000]

Take notice that on July 11, 2002, Crescent Ridge LLC (the Applicant), with its principal office at c/o Illinois Wind Energy LLC, 205 W. Monroe Street, 4th Floor, Chicago, IL 60606, filed with the Federal Energy Regulatory Commission (Commission), an application for determination of exempt wholesale generator status pursuant to Part 365 of the Commission's regulations.

Applicant states that it is a Delaware limited liability company engaged directly and exclusively in the business of developing, owning and operating an approximately 51 MW generating facility located in Bureau County, Illinois. Electric energy produced by the facility will be sold exclusively at wholesale by Applicant.

Comment Date: August 6, 2002.

4. State Street Bank and Trust Company of Connecticut, National Association, not in its individual capacity, but solely as Owner Trustee on behalf of PH Generating Statutory Trust B under the Trust Agreement, dated as of February 15, 2002 (as amended, restated, supplemented or otherwise modified from time to time), by and between State Street Bank and Trust Company of Connecticut, National Association and First Chicago Leasing Corporation

[Docket No. EG02-166-000]

Take notice that on July 10, 2002, State Street Bank and Trust Company of Connecticut, National Association, not in its individual capacity, but solely as Owner Trustee on behalf of PH Generating Statutory Trust B under the Trust Agreement, dated as of February 15, 2002 (as amended, restated, supplemented or otherwise modified from time to time), by and between State Street Bank and Trust Company of Connecticut, National Association and First Chicago Leasing Corporation (Applicant) filed with the Federal Energy Regulatory Commission (Commission), an application for determination of exempt wholesale generator status pursuant to part 365 of the Commission's regulations. Applicant will purchase and hold legal title, as owner trustee for the benefit of owner participants, to a 40 percent leasehold interest in the Aries Power Plant, an approximately 600 MW natural gas-fired combined-cycle generating facility being constructed near Pleasant Hill in Cass County, Missouri.

Comment Date: August 6, 2002.

5. State Street Bank and Trust Company of Connecticut, National Association, not in its individual capacity, but solely as Owner Trustee on behalf of PH Generating Statutory Trust A under the Trust Agreement, dated as of February 15, 2002 (as amended, restated, supplemented or otherwise modified from time to time, by and between State Street Bank and Trust Company of Connecticut, National Association and Bankers Commercial Corporation

[Docket No. EG02-167-000]

Take notice that on July 10, 2002, State Street Bank and Trust Company of Connecticut, National Association, not in its individual capacity, but solely as Owner Trustee on behalf of PH Generating Statutory Trust A under the Trust Agreement, dated as of February 15, 2002 (as amended, restated, supplemented or otherwise modified from time to time), by and between State Street Bank and Trust Company of Connecticut, National Association and Bankers Commercial Corporation (Applicant) filed with the Federal Energy Regulatory Commission (Commission) an application for determination of exempt wholesale generator status pursuant to Part 365 of the Commission's regulations. Applicant will purchase and hold legal title, as owner trustee for the benefit of owner participants, to a 60 percent leasehold interest in the Aries Power Plant, an approximately 600 MW natural gas-fired combined-cycle generating facility being constructed near Pleasant Hill in Cass County, Missouri.

Comment Date: August 6, 2002.

6. American Electric Power Service Corporation

[Docket Nos. ER00-2413-009]

Take notice that on July 10, 2002, American Electric Power Service Corporation, on behalf of the operating companies of the American Electric Power System (collectively AEP) filed proposed amendments to its Open Access Transmission Tariff in compliance with the Commission's May 16, 2002 Order in the above-referenced dockets.

AEP requests an effective date of July 1, 2000 for the proposed amendments. Copies of AEP's filing have been served upon AEP's transmission customers and the public service commissions of Arkansas, Indiana, Kentucky, Louisiana, Michigan, Ohio, Oklahoma, Tennessee, Texas, Virginia and West Virginia.

Comment Date: July 31, 2002.

7. Midwest Independent Transmission System Operator Inc.

[Docket No. ER01-3142-009]

Take notice that on July 10, 2002, the Midwest Independent Transmission System Operator, Inc. submitted its compliance filing pursuant to the Federal Energy Regulatory Commission's (Commission) June 12, 2002 Order On Compliance Filing, Midwest Independent Transmission System Operator, Inc., in which the Commission directed the Midwest ISO to further revise certain language in its Open Access Transmission Tariff.

The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: July 31, 2002.

8. TransAlta Energy Marketing (US) Inc.

[Docket No. ER01-3148-002]

Take notice that on July 10, 2002, in compliance with the Federal Energy Regulatory Commission's (Commission) June 11, 2002 letter Order in Docket No. EL01-3148-001, TransAlta Energy Marketing (US) Inc. (TEMUS) tendered for filing a notice of succession reflecting its succession to Merchant Energy Group of the Americas, Inc.”s Rate Schedule FERC No. 2, effective August 29, 2001.

Comment Date: July 31, 2002.

9. Boston Edison Company

[Docket No. ER02-170-003]

Take notice that on July 10, 2002, Boston Edison Company (Boston Edison) tendered for filing Second Revised Rate Schedule FERC No. 167 to replace the filing made on June 13, 2002 in Docket No. ER02-170-002, which was not in conformance with the requirements of Order No. 614. Boston Edison requests that the new First Revised Rate Schedule FERC No. 167 become effective on June 1, 2002.

Comment Date: July 31, 2002.

10. New England Power Company

[Docket No. ER02-1482-002]

Take notice that on July 10, 2002, New England Power Company (NEP) submitted for filing an erratum to NEP's July 1, 2002 compliance filing made in the above-captioned docket. The purpose of the compliance filing was to amend a service agreement, First Revised Service Agreement No. 178, for service under NEP's Open Access Transmission Tariff, FERC Electric Tariff, Second Revised Volume No. 9 between NEP and Middleborough Gas & Electric Department (Middleborough). NEP states that the Network Operating Agreement, which is part of Service Agreement No. 178, was inadvertently omitted from the July 1 filing.

A copy of this filing has been served upon the appropriate state agencies, Middleborough and each person designated on the official service list for this proceeding.

Comment Date: July 31, 2002.

11. Southwest Power Pool, Inc.

[Docket No. ER02-1705-001]

Take notice that on July 10, 2002, Southwest Power Pool, Inc (SPP) tendered certain supplemental information in response to a letter from the Federal Energy Regulatory Commission (Commission) issued on June 26, 2002, in the above-referenced docket. The June 26, 2002 letter requested additional information concerning a proposed upgrade to be in constructed in order to support an interconnection request under an interconnection agreement with Duke Energy Leavenworth that was filed in this proceeding on an unexecuted basis on May 3, 2002.

Comment Date: July 31, 2002.

12. California Power Exchange Corporation

[Docket No. ER02-2234-001]

Take notice that California Power Exchange Corporation (CalPX), on July 10, 2002, tendered for filing an amendment to its July 3, 2002 rate filing in Docket No. ER02-2234-000, to request that the effective date of its proposed Rate Schedule FERC No. 1 be advanced from August 30, 2002 to July 10, 2002, and to provide additional information concerning that rate filing.

The proposed change in effective date responds to actions taken by Enron Power Marketing, Inc. and Enron Corporation and other CalPX Participants in the California electricity market on June 28, 2002 to dismiss certain litigation against CalPX initiated in the United States District Court for the Central District of California.

Comment Date: July 31, 2002.

13. Western Systems Power Pool, Inc.

[Docket No. ER02-2254-001]

Take notice that on July 8, 2002, the Western Systems Power Pool, Inc. (WSPP) submitted an errata to its July 2, 2002 filing to correct a non-substantive error. WSPP seeks an effective date of September 1, 2002, for these changes.

This filing has been posted on the WSPP homepage (www.wspp.org) and e-mailed to the active WSPP members thereby providing notice to WSPP members.

Comment Date: July 29, 2002.

14. Southwest Public Service Company

[Docket No ER02-2296-000]

Take notice that on July 9, 2002, Xcel Energy Services Inc., on behalf of Southwestern Public Service Company (SPS), submitted an umbrella agreement and certain executed service agreements between SPS Transmission and SPS Energy Markets under SPS's rate Schedule for the Sale, Assignment or Transfer of Transmission Rights. The agreements are proposed to be effective January 1, 2002, and June 1, 2002, respectively. SPS indicates a copy of the filing has been served upon the State Commissions of Kansas Mexico, Oklahoma and Texas, and on SPS Energy Markets.

Comment Date: July 30, 2002.

15. California Independent System Operator Corporation

[Docket No. ER02-2297-000]

Take notice that the California Independent System Operator Corporation, (ISO) on July 9, 2002, tendered for filing a Meter Service Agreement for ISO Metered Entities between the ISO and Cabazon Wind Partners, LLC for acceptance by the Federal Energy Regulatory Commission.

The ISO states that this filing has been served on Cabazon Wind Partners, LLCand the California Public Utilities Commission. The ISO is requesting waiver of the 60-day notice requirement to allow the Meter Service Agreement for ISO Metered Entities to be made effective July 3, 2002.

Comment Date: July 30, 2002.

16. California Independent System Operator Corporation

[Docket No. ER02-2298-000]

Take notice that the California Independent System Operator Corporation, (ISO) on July 9, 2002, tendered for filing a Participating Generator Agreement between the ISO and Cabazon Wind Partners, LLC for acceptance by the Commission.

The ISO states that this filing has been served on Cabazon Wind Partners and the California Public Utilities Commission. The ISO is requesting waiver of the 60-day notice requirement to allow the Participating Generator Agreement to be made effective July 3, 2002.

Comment Date: July 30, 2002.

17. California Independent System Operator Corporation

[Docket No. ER02-2299-000]

Take notice that the California Independent System Operator Corporation, (ISO) on July 9, 2002, tendered for filing with the Federal Energy Regulatory Commission (Commission) a Participating Generator Agreement between the ISO and Whitewater Hill Wind Partners, LLC, for acceptance by the Commission.

The ISO states that this filing has been served on Whitewater Hill Wind Partners and the California Public Utilities Commission. The ISO is requesting waiver of the 60-day notice requirement to allow the Participating Generator Agreement to be made effective July 3, 2002.

Comment Date: July 31, 2002.

18. California Independent System Operator Corporation

[Docket No. ER02-2300-000]

Take notice that the California Independent System Operator Corporation, (ISO) on July 9, 2002, tendered for filing with the Federal Energy Regulatory Commission (Commission) a Meter Service Agreement for ISO Metered Entities between the ISO and Whitewater Hill Wind Partners, LLC, for acceptance by the Commission.

The ISO states that this filing has been served on Whitewater Hill Wind Partners and the California Public Utilities Commission. The ISO is requesting waiver of the 60-day notice requirement to allow the Meter Service Agreement for ISO Metered Entities to be made effective July 3, 2002.

Comment Date: July 31, 2002.

19. Entergy Services, Inc.

[Docket No. ER02-2301-000]

Take notice that on July 9, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Dominion Energy Marketing, Inc.

Comment Date: July 30, 2002.

20. American Electric Power Service Corporation

[Docket No.ER02-2302-000]

Take notice that on July 8, 2002, the American Electric Power Service Corporation (AEPSC) tendered for filing one (1) non-redacted, confidential copy and one (1) redacted, non-confidential copy of a Service Agreement for the sale of power by AEPSC, which is greater than one year in length. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies). AEPSC respectfully requests waiver of notice to permit the attached Service Agreement to be made effective on or prior to June 1, 2002.

A copy of the filing was served upon the Parties and the State Utility Regulatory Commissions of Arkansas, Indiana, Kentucky, Louisiana, Michigan, Ohio, Oklahoma, Tennessee, Texas, Virginia and West Virginia.

Comment Date: July 29, 2002.

21. KeySpan-Port Jefferson Energy Center, LLC

[Docket No. ER02-2303-000]

Take notice that on July 10, 2002, KeySpan-Port Jefferson Energy Center, LLC (Port Jefferson) submitted for filing for informational purposes pursuant to Section 205 of the Federal Power Act an executed umbrella service agreement establishing the Long Island Lighting Company d/b/a LIPA, through its agent KeySpan Energy Trading Services, LLC as a customer under Port Jefferson's market-based rate tariff. Port Jefferson requests an effective date of July 10, 2002 for the service agreement.

Comment Date: July 30, 2002.

22. CalPeak Power—Mission LLC

[Docket No. ER02-2304-000]

Take notice that on July 9, 2002, CalPeak Power—Mission LLC (CalPeak Mission) tendered for filing a Notice of Cancellation of its FERC Electric Tariff, Original Volume No. 1.

Comment Date: July 30, 2002.

23. California Independent System Operator Corporation

[Docket No. ER02-2305-000]

Take notice that on July 10, 2002, the California Independent System Operator Corporation (ISO) filed Second Revised Service Agreement No. 412, which is a Participating Generator Agreement (PGA) between the ISO and GWF Energy LLC. The PGA has been revised to update Schedule 1 of the PGA. The ISO requests that the PGA be made effective as of June 10, 2002.

The ISO has served copies of this filing upon GWF Energy LLC and all entities that are on the official service list for Docket No. ER01-2958-000.

Comment Date: July 31, 2002.

24. Louisville Gas and Electric Company

[Docket No. ER02-2306-000]

Take notice that on July 10, 2002, Kentucky Utilities Company (KU) filed a termination notice for power sales service between KU and Florida Power and Light Company (FPL). The terminated services are Service Agreement 113 under KU's FERC Electric Tariff 1R2. FPL requested the contract termination on June 25, 2002.

Comment Date: July 31, 2002.

25. California Independent System Operator Corporation

[Docket No. ER02-2307-000]

Take notice that on July 10, 2002, the California Independent System Operator Corporation (ISO) filed First Revised Service Agreement No. 356, which is a Participating Generator Agreement (PGA) between the ISO and Alliance Colton, LLC, which is now known as Colton Power, L.P. The PGA has been revised to update Schedule 1 of the PGA. The ISO requests that the PGA be made effective as of June 6, 2002.

The ISO has served copies of this filing upon Colton Power, L.P. and all entities that are on the official service list for Docket No. ER01-1610-000.

Comment Date: July 31, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-18490 Filed 7-22-02; 8:45 am]

BILLING CODE 6717-01-P